NATIONAL TRANSPORTATION SAFETY BOARD

Sunshine Act Meetings

Time and Place: Tuesday, April 25, 2006.

Place: NTSB Conference Center, 429 L'Enfant Plaza, SW., Washington, DC 20594.

Status: The one item is open to the public.

Matter To Be Considered

7752A: Safety Board—Report on the Treatment of Safety—Critical Systems in Transport Airplanes.

News Media Contact: Ted Lopatkiewicz. Telephone: (202) 314-6100.

Individuals requesting specific accommodations should contact Chris Bisett at (202) 314-6305 by Friday, April 21, 2006.

The public may view the meeting via a live or archived Webcast by accessing a link under “News & Events” on the NTSB home page at http://www.ntsb.gov.

FOR MORE INFORMATION CONTACT: Vicky D'Onofrio, (202) 314-6410.

Dated: April 14, 2006.
Vicky D'Onofrio,
Federal Register Liaison Officer.

[FR Doc. 06-3748 Filed 4-14-06; 2:26 am]

BILLING CODE 7533-01-M